DEPARTMENT OF ENERGY

Federal Energy Regulatory Commission

[Docket Nos. RM01-8-000; RM10-12-000; RM12-3-000]

Filing Requirements for El. Utility S.A.; Electricity Market Transparency Provisions of Section 220 of the Federal Power Act; Revisions to Electric Quarterly Report Filing Process; Order Extending and Setting Deadlines To File Electric Quarterly Reports

Before Commissioners: Cheryl A. LaFleur, Acting Chairman; Philip D. Moeller, John R. Norris, and Tony Clark.

1. This order establishes new deadlines for filing the third quarter (Q3) 2013 Electric Quarterly Report (EQR), fourth quarter (Q4) 2013 EQR, and first quarter (Q1) 2014 EQR. On September 21, 2012, the Federal Energy Regulatory Commission (Commission) issued Order No. 768,¹ which, among other things, revised the existing EQR filing requirements to require market participants that are excluded from the Commission's jurisdiction under section 205 of the Federal Power Act (FPA) ² and have more than a de minimis market presence to file EQRs with the Commission. The requirement for certain non-public utilities to file EQRs was to be implemented at the same time as the requirement for all EQR filers (both public utilities and non-public utilities) to report the revised EQR data fields adopted in Order No. 768, i.e., beginning with Q3 2013.³

¹ Electricity Market Transparency Provisions of Section 220 of the Federal Power Act, Order No. 768, FERC Stats. & Regs. ¶ 31,336 (2012), order on reh'g, Order No. 768-A, 143 FERC ¶ 61,054 (2013); see also Revised Public Utility Filing Requirements, Order No. 2001, FERC Stats. & Regs. ¶ 31,127, reh'g denied, Order No. 2001-A, 100 FERC ¶ 61,074, reh'g denied, Order No. 2001-B, 100 FERC ¶ 61,342, order directing filing, Order No. 2001-C, 101 FERC ¶ 61,314 (2002), order directing filing, Order No. 2001-D, 102 FERC ¶ 61,334, order refining filing requirements, Order No. 2001-E, 105 FERC ¶ 61,352 (2003), order on clarification, Order No. 2001-F, 106 FERC ¶ 61,060 (2004), order revising filing requirements, Order No. 2001-G, 120 FERC ¶ 61,270, order on reh'g and clarification, Order No. 2001-H, 121 FERC ¶ 61,289 (2007), order revising filing requirements, Order No. 2001-I, FERC Stats. & Regs. ¶ 31,282 (2008).

² 16 U.S.C. ¶ 824d (2012). Order No. 768 refers to market participants that are not public utilities under section 201(f) of the FPA as “non-public utilities.”

³ Order No. 768, FERC Stats. & Regs. ¶ 31,336 at P 4.

2. On November 12, 2012, the Commission issued Order No. 770,⁴ which, among other things, revised the Commission's regulations to change the process for filing EQRs. In Order No. 770, the Commission announced that, due to technology changes that will render the current filing process outmoded, ineffective, and unsustainable, the Commission will discontinue the use of Commission-distributed software to file an EQR. The Commission reported that, instead, it will adopt a web-based approach to filing EQRs that will allow a public or non-public utility to file an EQR directly through the Commission's Web site, either through a web interface or by submitting an Extensible Mark-Up Language-formatted file. The Commission stated that the changes to the process for filing EQRs would apply to EQR filings beginning with the Q3 2013 EQR.⁵

⁴ Revisions to Electric Quarterly Report Filing Process, Order No. 770, FERC Stats. & Regs. ¶ 31,338 (2012).

⁵ Id. PP 1, 47.

3. On October 10, 2013, the Commission notified all public and non-public utilities that they were not to file Q3 2013 EQRs until the web-based approach was available.⁶ The Commission extended the deadline for public and non-public utilities to file Q3 2013 EQRs from October 31, 2013 to a date to be determined.

⁶ Filing Requirements for El. Utility S.A., 145 FERC ¶ 61,031 (2013).

4. On December 27, 2013, the Commission notified all public and non-public utilities that they were not to file Q4 2013 EQRs until after the web-based approach was available.⁷ The Commission extended the deadline for public and non-public utilities to file Q4 2013 EQRs from January 31, 2014 to a date to be determined. The Commission stated that it would issue a notice that would notify all public and non-public utility EQR filers when the new web-based approach was available and provide the new deadline for filing Q3 and Q4 2013 EQRs.

⁷ Filing Requirements for El. Utility S.A., 145 FERC ¶ 61,282 (2013).

5. The Commission hereby notifies all public and non-public utilities that they are to file Q3 2013 EQRs during the period April 1, 2014 to April 30, 2014.

6. The Commission further notifies all public and non-public utilities that they are to file Q4 2013 EQRs during the period May 1, 2014 to May 31, 2014.

7. The Commission further notifies all public and non-public utilities that they are not to file Q1 2014 EQRs during the period April 1, 2014 to April 30, 2014. The Commission hereby extends the deadline for public and non-public utilities to file Q1 2014 EQRs to the period June 1, 2014 to June 30, 2014.

8. EQRs for the second quarter (Q2) 2014 will be due during the normal filing period of July 1, 2014 to July 31, 2014 and all subsequent filings will be due during the normal filing period, unless otherwise directed by the Commission.

9. The Commission understands that it may take parties some time to become proficient with the new filing system. As a result, the Commission does not intend to penalize parties that are making best efforts for the Q3 2013 EQRs, the Q4 2013 EQRs, and the Q1 2014 EQRs. In that regard, the Commission strongly encourages parties to utilize the month of March 2014 to assure that they are well prepared for the first filing period under the new system. Parties should assure that they are properly eRegistered through the Commission's Web site and that they have tested their filing processes through the Commission's EQR Sandbox. Finally, the Commission strongly encourages parties to file early in the filing period and use the “Test-Only” functionality in the filing system so that any issues may be addressed well before the final filing deadline. Finally, the Commission reminds parties that staff is available to answer questions, as directed by Order No. 770.⁸ Questions may be submitted via email to: eqr@ferc.gov.

⁸ Order No. 770, FERC Stats. & Regs. ¶ 31,338 at P 12.

The Commission orders:

(A) The period for filing Q3 2013 EQRs will be April 1, 2014 to April 30, 2014.

(B) The period for filing Q4 2013 EQRs will be May 1, 2014 to May 31, 2014.

(C) The period for filing Q1 2014 EQRs is hereby extended, as discussed in the body of this order, to June 1, 2014 to June 30, 2014.

(D) The period for filing Q2 2014 EQRs, as discussed in the body of this order, will remain July 1, 2014 to July 31, 2014. All other filing periods shall remain the same, unless otherwise directed by the Commission.

Dated: Issued February 28, 2014.
By the Commission.
Nathaniel J. Davis, Sr.,
Deputy Secretary.

[FR Doc. 2014-05337 Filed 3-11-14; 8:45 am]

BILLING CODE 6717-01-P